INTERNATIONAL TRADE COMMISSION

[Investigation Nos. 701-TA-417 and 731-TA-953, 731-TA-957-959, and 731-TA-961 (Fourth Review)]

Carbon and Certain Alloy Steel Wire Rod From Brazil, Indonesia, Mexico, Moldova, and Trinidad and Tobago; Determinations

On the basis of the record ¹ developed in the subject five-year reviews, the United States International Trade Commission (“Commission”) determines, pursuant to the Tariff Act of 1930 (“the Act”), that revocation of the countervailing duty order on carbon and certain alloy steel wire rod (“wire rod”) from Brazil and the antidumping duty orders on wire rod from Brazil, Indonesia, Mexico, Moldova, and Trinidad and Tobago would be likely to lead to continuation or recurrence of material injury to an industry in the United States within a reasonably foreseeable time.

¹ The record is defined in § 207.2(f) of the Commission's Rules of Practice and Procedure (19 CFR 207.2(f)).

Background

The Commission instituted these reviews on July 1, 2025 (90 FR 28783) and determined on November 24, 2025, that it would conduct expedited reviews (90 FR 61162, December 30, 2025).

The Commission made these determinations pursuant to section 751(c) of the Act (19 U.S.C. 1675(c)). It completed and filed its determinations in these reviews on February 19, 2026. The views of the Commission are contained in USITC Publication 5706 (February 2026), entitled Carbon and Certain Alloy Steel Wire Rod from Brazil, Indonesia, Mexico, Moldova, and Trinidad and Tobago: Investigation Nos. 701-TA-417 and 731-TA-953, 731-TA-957-959, and 731-TA-961 (Fourth Review).

By order of the Commission.
Issued: February 19, 2026.
Lisa Barton,
Secretary to the Commission.

[FR Doc. 2026-03608 Filed 2-23-26; 8:45 am]

BILLING CODE 7020-02-P